DEPARTMENT OF HEALTH AND HUMAN SERVICES

National Institutes of Health

Center for Scientific Review; Amended Notice of Meeting

Notice is hereby given of a change in the meeting of the Center for Scientific Review Special Emphasis Panel, October 4, 2006, 8 a.m. to October 5, 2006, 5 p.m. National Institutes of Health, 6701 Rockledge Drive, Bethesda, MD, 20892 which was published in the Federal Register on September 11, 2006, 71 FR 53458-53460.

The meeting title has been changed to “Small Business: Ear”. The meeting is closed to the public.

Dated: September 25, 2006.
Anna Snouffer,
Acting Director, Office of Federal Advisory Committee Policy.

[FR Doc. 06-8411 Filed 9-29-06; 8:45 am]

BILLING CODE 4140-01-M